DEPARTMENT OF COMMERCE

National Oceanic and Atmospheric Administration

50 CFR Part 223

[I.D. 062001A]

Exemption to No-entry Zone around Bogoslof Island, Alaska

AGENCY: National Marine Fisheries Service (NMFS), National Oceanic and Atmospheric Administration (NOAA), Commerce.

ACTION: Notification of authorized exemption to the no-entry zone around Bogoslof Island, Alaska.

SUMMARY: Pursuant to regulations that establish protections for Steller sea lions, the Administrator, Alaska Region, NMFS, authorized a one-time exemption to the 3-nautical mile (nm) no-entry zone around Bogoslof Island for the sole purpose of retracing, to the extent practicable, the 1899 Harriman Alaska Expedition. These regulations allow an exemption to the no-entry zone provided that the activity is authorized by the Administrator, Alaska Region, NMFS, and if the activity will not have a significant adverse affect on Steller sea lions, the activity has been conducted historically or traditionally in the buffer zone, and there is no readily available and acceptable alternative site for the activity.

SUPPLEMENTARY INFORMATION: On April 6, 2001, the Alaska Regional Office, NMFS received a letter that introduced the project, “The 1899 Harriman Alaska Expedition Retraced: A Century of Change”, and requested that NMFS allow the M/V Clipper Odyssey to visit Bogoslof Island, Alaska, including a landing. The original Harriman Expedition visited Bogoslof Island on July 8, 1899, and the current expedition is expected to be near Bogoslof Island in mid-August of 2001.

The Steller sea lion population throughout western Alaska has declined by 80 percent during the past 3 decades, and the decline continues, especially for the pup, juvenile and subadult components of the sea lion population. Due to the continuing decline, NMFS has prohibited the landing on this, and other significant rookeries in the Bering Sea and Aleutian Islands, and prohibited the entry of any vessel, with exceptions, within 3 nm of the rookeries, since the species was listed as threatened under the Endangered Species Act in 1990 (55 FR 12645, April 5, 1990). In 1997 the western population was reclassified as endangered due to the continued decline in numbers, especially among pups and subadults (62 FR 24345, May 5, 1997). Pup counts on some rookeries have declined by greater than 40 percent during the past decade. Steller sea lion population trends on Bogoslof Island are consistent with those of the rest of the sea lion's range.

The Administrator, Alaska Region, may authorize an exemption to the prohibition to enter buffer zones around rookeries provided that the activity will not have a significant adverse affect on Steller sea lions, the activity has been conducted historically or traditionally in the buffer zone, and there is no readily available and acceptable alternative site for the activity (50 CFR 223.202 (b)(5)). There is no indication that a one-time entry into the buffer zone around Bogoslof Island (but not landing on the island) would have a significant adverse affect on Steller sea lions. Further, given that the purpose of this activity is to retrace an expedition that has historical significance to the State of Alaska, a one-time pass by the island is consistent with the intent of the historical aspects of the “Harriman Expedition Retraced” and does not increase the likelihood of a significant impact to the endangered sea lions that currently occupy the island. However, the expedition anticipates being in the Bogoslof Island area during the Steller sea lion and northern fur seal pupping season, and landing on the island could have a significant adverse impact on successful reproduction or pup-rearing.

In a letter dated June 22, 2001, the Administrator, Alaska Region, granted an exemption to the prohibitions on entering the no-entry area around Bogoslof Island so the expedition may make a one-time pass through the no-entry zone for the sole purpose of retracing, to the extent practicable, the historic Harriman Expedition. Condition of this exemption include (1) a prohibition to land on the island, (2) the expedition vessel is not allowed to operate within 1 nm of any point on the rookery, and (3) no one is allowed to enter within 500m of any point on the rookery by any means, such as an inflatable vessel. All other provisions of 50 CFR 223.202 apply.

Authority: 16 U.S.C. 1531 et seq.

Dated: July 13, 2001.
Donald R. Knowles,
Director, Office of Protected Resources, National Marine Fisheries Service.

[FR Doc. 01-18103 Filed 7-18-01; 8:45 am]

BILLING CODE 3510-22-S